DEPARTMENT OF COMMERCE

National Oceanic and Atmospheric Administration

[RTID 0648-XE008]

Gulf of Mexico Fishery Management Council; Public Meetings

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, June 24 through Thursday, June 27, 2024. Daily schedule is as follows: Monday through Thursday, from 8:30 a.m. to 5 p.m., CDT.

ADDRESSES: The meeting will take place at the Omni Hotel, located at 4 Riverway, Houston, TX 77056. If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, June 24, 2024; 8:30 a.m.-5:30 p.m., CDT

The meeting will begin with the Administrative/Budget Committee reviewing modifications to Council's Statement of Organization Practices and Procedures (SOPPS), Reporting Requirement for Council Compensation, Considerations for Anti-Harassment Training for Advisory Panel Members, Documentation of Participation Requirements for Advisory Panel Members and Status Update on Inflation Reduction Act Funding for the Regional Management Councils.

The Data Collection Committee will discuss draft options for the For-hire Data Collection Program and National Oceanic Atmospheric Administration's (NOAA) Fisheries Guidance on Marine Recreational Information Program-Fishing Effort Survey (MRIP-FES) Transition Document.

The Sustainable Fisheries Committee will review Scientific and Statistical Committee (SSC) Recommendations and SEDAR Steering Committee Meeting Summary from both May 2024 meetings.

Approximately 2:45 p.m. until 5:30 p.m., the Council will convene the Full Council in a Closed Session to finalize appointments for Ad Hoc Commercial Red Snapper/Grouper-Tilefish, Reef Fish and Shrimp Advisory Panels, and selection of the Special Standing Scientific and Statistical Committee (SSC) members for the June 2024-2027 term.

Tuesday, June 25, 2024; 8:30 a.m.-5 p.m., CDT

The Reef Fish Committee will convene to discuss Reef Fish Amendment 60: Individual Fishing Quota Programmatic Distributional Issues, draft options for Reef Fish Amendment 59: Requirements for Participation in Individual Fishing Quota Programs, receive presentation on 20-Fathom Recreational Seasonal Closure for Shallow-water Grouper and Reef Fish Advisory Panel (AP) recommendations. The committee will discuss National Marine Fisheries Service (NMFS) Letter to the Gulf Council on Lane Snapper Overfishing and Reef Fish AP Recommendations, review Reef Fish Advisory Panel Charter For-hire Buffer and Fishing Season for Red Snapper, and other business. The committee will receive an update and next steps for Recreational Initiative and discuss Other Business: 2024 Recreational Season for Gag.

Wednesday, June 26, 2024; 8:30 a.m.-5 p.m., CDT

The Mackerel Committee will review Draft Framework Amendment 14: Modifications to Gulf Migratory Group Spanish Mackerel Catch Limits including Coastal Migratory Pelagics (CMP) Advisory Panel Recommendations and Draft Framework Amendment 15: Gulf Migratory Group King Mackerel Management Measures Recommendations.

The Migratory Species Committee will review scoping document on Gear Considerations in Atlantic Highly Migratory Species.

The Council will reconvene at approximately 10:45 a.m., CDT with a Call to Order, Announcements and Introductions, Adoption of Agenda and Approval of Minutes.

The Council will receive a presentation update from Bureau of Ocean Energy Management (BOEM) on Wind Energy Development in the Gulf of Mexico and Texas Law Enforcement Efforts. The Council will hold public testimony beginning at 1:30 p.m. to 5 p.m., CDT for comments on Scoping Document: Gear Consideration in Atlantic Highly Migratory Species, comments on the Status of the Coastal Migratory Pelagics Fisheries, and open testimony on other fishery issues or concerns. Public comment may begin earlier than 1:30 p.m. CDT but will not conclude before that time. Persons wishing to give public testimony in-person must register at the registration kiosk in the meeting room. Persons wishing to give public testimony virtually must sign up on the Council website on the day of public testimony. Registration for virtual testimony closes one hour (12:30 p.m. CDT) before public testimony begins.

Thursday, June 27, 2024; 8:30 a.m.-5 p.m., CDT

The Council will receive a presentation on Flower Garden Banks Management Considerations for Wahoo and an Overview of Regulatory Options for Management of Wahoo. Next, Committee reports will be received from Administrative/Budget, Data Collection, Closed Session, Reef Fish, Mackerel and Migratory Species Committee. The Council will receive updates from the following supporting agencies: South Atlantic Fishery Management Council Liaison; NOAA Office of Law Enforcement (OLE); Gulf States Marine Fisheries Commission; U.S. Coast Guard; U.S. Fish and Wildlife Service; and Department of State.

Lastly, the Council will hold a discussion for Council Planning and Primary Activities; and Other Business items: Litigation Update and Briefing Book Deadlines.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: June 3, 2024.
Rey Israel Marquez,
Acting Deputy Director, Office of Sustainable Fisheries, National Marine Fisheries Service.

[FR Doc. 2024-12440 Filed 6-5-24; 8:45 am]

BILLING CODE 3510-22-P